DEPARTMENT OF COMMERCE

International Trade Administration

(A-570-831)

Fresh Garlic From the People's Republic of China; Notice of Extension of Time Limit for Final Results of Antidumping Duty Administrative Review

AGENCY: Import Administration, International Trade Administration, Department of Commerce.

ACTION: Notice of Extension of Time Limit for Final Results of Antidumping Duty Administrative Review.

SUMMARY: The Department of Commerce is extending the time limit for the final results of the administrative review of the antidumping duty order on fresh garlic from the People's Republic of China. The review covers three producers/exporters of subject merchandise. The period of review is November 1, 1997, through October 31, 1998.

EFFECTIVE DATE: March 15, 2000.

FOR FURTHER INFORMATION CONTACT: Farah Naim or Richard J. Rimlinger, Office of Antidumping/Countervailing Duty Enforcement 3, Import Administration, International Trade Administration, U.S. Department of Commerce, Room 4203, 14th Street and Constitution Avenue, N.W., Washington, DC 20230; telephone (202) 482-3174 or (202) 482-4477, respectively.

SUPPLEMENTARY INFORMATION: Under section 751(a)(3)(A) of the Trade and Tariff Act of 1930, as amended (the Act), the Department of Commerce (the Department) may extend the deadline for completion of an administrative review if it determines that it is not practicable to complete the review within the statutory time limit of 120 days after the date on which the notice of preliminary results was published in the Federal Register. In a situation in which the Department issued the preliminary results within the original statutory time limit, the Department may extend the time limit for completion of the final results, provided that the final results are issued within 300 days after the date on which the preliminary results were published.

In the instant case, the preliminary results were published in the Federal Register on July 21, 1999 (64 FR 39115), within the original statutory time frame. On November 18, 1999, we extended the final results partially for this case from November 18, 1999, to March 15, 2000 (64 FR 66884). However, because comments made by the petitioners concerning the existence of a re-packaging scheme present unusual issues, we find it not practicable to consider and address these issues fully by the March 15, 2000, deadline. Accordingly, the Department is extending the time limit for the final results to no later than May 16, 2000 (i.e., 300 days after the publication of the preliminary results).

We are publishing this notice in accordance with 19 CFR 351.302.

Dated: March 15, 2000.
Richard W. Moreland,
Deputy Assistant Secretary for Import Administration.

[FR Doc. 00-6993 Filed 3-20-00; 8:45 am]

BILLING CODE 3510-DS-P